DEPARTMENT OF COMMERCE

Foreign-Trade Zones Board

[B-64-2012]

Foreign-Trade Zone 59—Lincoln, Nebraska, Authorization of Production Activity, Novartis Consumer Health, Inc. (Pharmaceutical and Related Preparations Production), Lincoln, Nebraska

Novartis Consumer Health, Inc. submitted a notification of proposed production activity for the company's facilities within Sites 3 and 4 of FTZ 59, in Lincoln, Nebraska.

The notification was processed in accordance with the regulations of the FTZ Board (15 CFR part 400), including notice in the Federal Register inviting public comment (77 FR 50462, August 21, 2012). The FTZ Board has determined that no further review of the activity is warranted at this time. The production activity described in the notification is authorized, subject to the FTZ Act and the Board's regulations, including Section 400.14.

Dated: November 23, 2012.
Elizabeth Whiteman,
Acting Executive Secretary.

[FR Doc. 2012-28923 Filed 11-28-12; 8:45 am]

BILLING CODE P